DEPARTMENT OF VETERANS AFFAIRS

[OMB Control No. 2900-0708]

Agency Information Collection Activity Under OMB Review: Evidence for Transfer Entitlement of Education Benefits (CFR 21.7080)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before July 31, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-00708” in any correspondence.

FOR FURTHER INFORMATION CONTACT: Cynthia Harvey-Pryor, Department Clearance Officer—OI&T (005R1B), Department of Veterans Affairs, 810 Vermont Avenue NW., Washington, DC 20420, (202) 461-5870 or email Cynthia.harvey.pryor@va.gov. Please refer to “OMB Control No. 2900-0708” in any correspondence.

SUPPLEMENTARY INFORMATION:

Authority: 38 U.S.C. 3020, 38 U.S.C. 3319; 44 U.S.C. 3501-3521.

Title: Evidence for Transfer Entitlement of Education Benefits (CFR 21.7080).

OMB Control Number: 2900-0708.

Type of Review: Revision of a currently approved collection.

Abstract: Servicemembers on active duty may request to designate up to a maximum of 18 months of their educational entitlement to their spouse, one or more of their children, or a combination of the spouse and children. VA will accept DOD Form 2366-1 as evidence that the servicemember must submit it in writing to VA, the name of each dependent, the number of months of entitlement transferred to each dependent, and the period (beginning date or ending date) for which the transfer will be effective for each designated dependent. VA will use the information shown on DOD Form 2366-1 to determine whether the dependent qualifies to receive education benefits under the transfer of entitlement provision of law.

An agency may not conduct or sponsor, and a person is not required to respond to a collection of information unless it displays a currently valid OMB control number. The Federal Register Notice with a 60-day comment period soliciting comments on this collection of information was published at 82 FR 69 on April 12, 2017, page 17742.

Affected Public: Individuals or households.

Estimated Annual Burden: 11,311 hours.

Estimated Average Burden per Respondent: 5 minutes.

Frequency of Response: Once.

Estimated Number of Respondents: 135,735.

By direction of the Secretary.
Cynthia Harvey-Pryor,
Department Clearance Officer, Office of Privacy and Records Management, Department of Veterans Affairs.

[FR Doc. 2017-13729 Filed 6-29-17; 8:45 am]

BILLING CODE 8320-01-P